DEPARTMENT OF HEALTH AND HUMAN SERVICES

Administration for Children and Families

[Program Announcement No. ACF/ACYF/HS FY 2000-04]

Early Head Start Longitudinal Research Partnerships: Availability of Funds and Request for Applications

AGENCY: Administration on Children, Youth and Families, ACF, DHHS.

ACTION: Notice.

Statutory Authority: The Head Start Act, as amended 42 U.S.C. 9801 et seq.) CFDA: 93.600.

SUMMARY: The Administration for Children and Families (ACF), Administration on Children, Youth and Families (ACYF) announces the availability of funds for universities, in partnership with the original 17 Early Head Start Research sites, to conduct the local and cross-site longitudinal research until entry into kindergarten on children and families who were participants in the original National Early Head Start Research Study.

DATES: The closing date for receipt of applications is 5:00 P.M. EDT January 29, 2001.

Note: Applications should be submitted to the ACYF Operations Center at 1815 N. Fort Myer Drive, Suite 300, Arlington, Virginia 22209. However, prior to preparing and submitting an application, in order to satisfactorily compete under this announcement it will be necessary for potential applicants to read the full announcement which is available through the addresses listed below.

ADDRESSES: The full announcement and applications, including all necessary forms can be downloaded from the Head Start web site at www.acf.dhhs.gov/programs/hsb. The web site also contains a listing of the 17 Early Head Start programs that were part of the original study. Hard copies of the application may be obtained by writing or calling the Operations Center or sending an email to hsr@cgnet.com

FOR FURTHER INFORMATION CONTACT: ACYF Operations Center at: 1815 N. Fort Myer Drive, Suite 300, Arlington, Virginia 22209 or (1-800) 351-2293.

SUPPLEMENTARY INFORMATION: Eligible Applicants: Universities and four-year colleges on behalf of a faculty member who holds a doctorate degree or equivalent in their respective field and have formed partnerships with an original Early Head Start Research site.

Project Duration: The announcement for Early Head Start Longitudinal Research is soliciting applications for project periods of four years. Awards, on a competitive basis, will be for the first one-year budget period. Applications for continuation grants funded under these awards beyond the one-year budget period, but within the established project period, will be entertained in subsequent years on a non-competitive basis, subject to availability of funds, satisfactory progress of the grantee and a determination that continued funding would be in the best interest of the Government. An additional competitive grant for one year may be considered for recipients of grants under this announcement if it is deemed necessary for the completion of the data analysis and report writing.

Federal Share of Project Costs: The maximum Federal share is $190,000 per Early Head Start research site for the first 12-month budget period based on the number of children to be tracked and tested and their distance from the original site. The Federal share for subsequent years shall be up to $200,000 per year per Early Head Start research site for each year of the project period depending on the number of children still to be tracked and tested and the analysis and report writing to be completed. The Federal share is inclusive of indirect costs.

Matching Requirements: There are no matching requirements.

Anticipated Number of Projects To Be Funded: It is anticipated that a maximum of 17 projects will be funded.

Criteria

Reviewers will consider the following factors when assigning points.

1. Results or Benefits Expected—25 points

• The research questions are clearly stated.

• The extent to which the questions are of importance and relevance for low-income children's development and welfare.

• The extent to which the research study makes a significant contribution to the knowledge base.

• The extent to which the literature review is current and comprehensive and supports the need for the study, the questions to be addressed or the hypotheses to be tested.

• The extent to which the questions that will be addressed or the hypotheses that will be tested are sufficient for meeting the stated objectives.

• The extent to which the results build on the results of the first study.

2. Approach—40 points

• The extent to which the research design is appropriate and sufficient for addressing the questions of the study.

• The extent to which child outcomes are the major focus of the study.

• The extent to which the planned research specifies the measures to be used and the analyses to be conducted.

• The extent to which the planned measures are appropriate and sufficient for the questions of the study.

• The extent to which the planned measures and analysis incorporate the measures and analyses completed under the original study.

• The extent to which the planned measures and analyses both reflect knowledge and use of state-of-the-art measures and analytic techniques and advance the state-of-the-art.

• The extent to which the analytic techniques are appropriate for the question under consideration.

• The extent to which the proposed sample size is sufficient for the study.

• The scope of the project is reasonable for the funds available for these grants.

• The extent to which the planned approach reflects sufficient input from and partnership with the Early Head Start program.

3. Staff and Position Data—35 points

• The extent to which the principal investigator and other key research staff possess the research expertise necessary to conduct the study as demonstrated in the application and information contained in their vitae.

• The principal investigator(s) has earned a doctorate or equivalent in the relevant field and has first or second author publications in major research journals.

• The extent to which the proposed staff reflect an understanding of and sensitivity to the issues of working in a community setting and in partnership with Early Head Start program staff and parents.

• The adequacy of the time devoted to this project by the principal investigator and other key staff in order to ensure a high level of professional input and attention.

Required Notification of the Single Point of Contact

This program is covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Colorado, Connecticut, Hawaii, Idaho, Kansas, Louisiana, Massachusetts, Minnesota, Montana, Nebraska, New Jersey, New York, Ohio, Oklahoma, Oregon, Palau, Pennsylvania, South Dakota, Tennessee, Vermont, Virginia, Washington, and American Samoa have elected to participate in the Executive Order process and have established Single Points of Contact (SPOCs). Applicants from these twenty-three jurisdictions need take no action regarding E.O. 12372. Applicants for projects to be administered by Federally-recognized Indian Tribes are also exempt from the requirements of E.O. 12372. Otherwise, applicants should contact their SPOCs as soon as possible to alert them of the prospective applications and receive any necessary instructions. Applicants must submit any required material to the SPOCs as soon as possible so that the program office can obtain and review SPOC comments as part of the award process. It is imperative that the applicant submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule.

When comments are submitted directly to ACF, they should be addressed to: William Wilson, Head Start Bureau, 330 C Street SW., Washington, DC 20447, Attn: Head-Start University Partnerships or Graduate Student Head Start Research. A list of the Single Points of Contact for each State and Territory can be found on the web site http://www.whitehouse.gov/omb/grants/spoc.html.

Dated: December 6, 2000.
James A. Harrell,
Acting Commissioner, Administration on Children, Youth and Families.

[FR Doc. 00-31664 Filed 12-12-00; 8:45 am]

BILLING CODE 4184-01-M